SMALL BUSINESS ADMINISTRATION

[License No. 01/01-0422]

New Canaan Funding Mezzanine V SBIC, L.P.; Notice Seeking Exemption Under Section 312 of the Small Business Investment Act, Conflicts of Interest

Notice is hereby given that New Canaan Funding Mezzanine V SBIC, L.P., 21 Locust Avenue, Suite 1C, New Canaan, CT 06840, a Federal Licensee under the Small Business Investment Act of 1958, as amended (“the Act”), in connection with the financing of a small concerns, has sought an exemption under Section 312 of the Act and Section 107.730, Financings which Constitute Conflicts of Interest of the Small Business Administration (“SBA”) Rules and Regulations (13 CFR 107.730). New Canaan Funding Mezzanine V SBIC, L.P. is proposing to provide financing to Safemark, Inc., 2101 Park Center Drive, Suite 125, Orlando, FL 32835. The financing will be used, in part, for working capital, to pay the seller, to pay off existing debt, and to pay fees and expenses.

The proposed transaction is brought within the purview of § 107.730 of the Regulations because Safemark, Inc. will be using financing proceeds from New Canaan Funding Mezzanine V SBIC, L.P. in part to discharge obligations to Corporate Mezzanine IV, L.P. and Trafalgar Business Solutions Ltd., which are Associates of New Canaan Funding Mezzanine V SBIC, L.P. as defined at § 107.50 due to common management.

Therefore, the proposed transaction is considered self-deal pursuant to 13 CFR 107.730 and requires a regulatory exemption. Notice is hereby given that any interested person may submit written comments on the transaction within fifteen days of the date of this publication to Associate Administrator for Investment, U.S. Small Business Administration, 409 Third Street SW., Washington, DC 20416.

Dated: July 2, 2015.
Javier Saade,
Associate Administrator for Investment and Innovation.

[FR Doc. 2015-17184 Filed 7-13-15; 8:45 am]

BILLING CODE P